NUCLEAR REGULATORY COMMISSION

[Docket No. 52-016]

Unistar Nuclear; Acceptance for Docketing of a Partial Application for Combined License for Calvert Cliffs Nuclear Power Plant, Unit 3

On July 16, 2007, the U.S. Nuclear Regulatory Commission (NRC, the Commission) received a partial combined license (COL) application from UniStar Nuclear (UniStar), dated July 13, 2007, as supplemented by letters dated July 16, August 2, September 11, October 30, and December 14, 2007, and January 14, 2008. The COL application was filed pursuant to section 103 of the Atomic Energy Act and Subpart C, “Combined Licenses,” of Title 10 of the Code of Federal Regulations (10 CFR), part 52, “License Certifications and Approvals for Nuclear Power Plants.” The site location is in Lusby, Maryland, and is identified as the Calvert Cliffs Nuclear Power Plant, Unit 3 (CCNPP3). The partial application included the environmental report, final safety analysis report information regarding site suitability, as well as other information required by 10 CFR 2.101(a)(5). A notice of receipt and availability of this application was previously published in the Federal Register (72 FR 45832) on August 15, 2007.

The NRC staff has determined that UniStar has submitted information in accordance with 10 CFR part 2, “Rules of Practice for Domestic Licensing Proceedings and Issuance of Orders,” specifically 10 CFR 2.101(a)(5) regarding submission of a COL application in two parts, and 10 CFR part 52, and that the partial application is acceptable for docketing. The docket number established for CCNPP3 is 52-016.

The NRC staff will perform a detailed technical review of the partial COL application. Docketing of the partial COL application does not preclude the NRC from requesting additional information from the applicant as the review proceeds, nor does it predict whether the Commission will grant or deny the application. The NRC staff will also perform an acceptance review of the second and final part of the application when it is tendered. After completion of the acceptance review for the full application, if it is found acceptable for docketing, the Commission will conduct a hearing in accordance with Subpart L, “Informal Hearing Procedures for NRC Adjudications,” of 10 CFR part 2 and will receive a report on the COL application from the Advisory Committee on Reactor Safeguards in accordance with 10 CFR 52.87, “Referral to the Advisory Committee on Reactor Safeguards (ACRS).” If the Commission finds that the full COL application meets the applicable standards of the Atomic Energy Act and the Commission's regulations, and that required notifications to other agencies and bodies have been made, the Commission will issue a COL, in the form and containing conditions and limitations that the Commission finds appropriate and necessary.

In accordance with 10 CFR Part 51, the Commission will also prepare an environmental impact statement for the proposed action. Pursuant to 10 CFR 51.26, and as part of the environmental scoping process, the NRC staff intends to hold a public scoping meeting. Detailed information regarding this meeting will be included in a future Federal Register notice.

Finally, the Commission will announce in a future Federal Register notice, the opportunity to petition for leave to intervene in the hearing required for this application by 10 CFR 52.85.

Documents may be examined, and/or copied for a fee, at the NRC's Public Document Room (PDR), located at One White Flint North, Public File Area O1 F21, 11555 Rockville Pike (first floor), Rockville, Maryland 20852, and will be accessible electronically through the Agencywide Documents Access System (ADAMS) Public Electronic Reading Room link at the NRC Web site http://www.nrc.gov/reading-rm/adams.html. Persons who do not have access to ADAMS, or who encounter problems in accessing documents located in ADAMS should contact the NRC PDR Reference staff by telephone at 1-800-397-4209, 301-415-4737, or by e-mail to pdr@nrc.gov. The application is also available at http://www.nrc.gov/reactors/new-licensing/col.html.

Dated at Rockville, Maryland this 25th day of January 2008.
For the Nuclear Regulatory Commission.
David B. Matthews,
Director, Division of New Reactor Licensing, Office of New Reactors.

[FR Doc. E8-1806 Filed 1-30-08; 8:45 am]

BILLING CODE 7590-01-P